DEPARTMENT OF TRANSPORTATION

Office of the Secretary

Aviation Proceedings, Agreements Filed the Week Ending April 14, 2012

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0055.

Date Filed: April 11, 2012.

Parties: Members of the International Air Transport Association.

Subject: Mail Vote 704—Resolution 012, Glossary of Terms, (Memo 1670).

Intended Effective Date: 1 May 2012.

Renee V. Wright,
Program Manager, Docket Operations, Federal Register Liaison.

[FR Doc. 2012-11282 Filed 5-10-12; 8:45 am]

BILLING CODE 4910-9X-P